DEPARTMENT OF LABOR

Employment and Training Administration

[TA-W-39,471]

Besser Co., Alpena Michigan; Notice of Affirmative Determination Regarding Application for Reconsideration

By letter of January 4, 2002, the International Brotherhood of Boilermakers, Local Lodge D-472 requested administrative reconsideration of the Department of Labor's Notice of Negative Determination Regarding Eligibility to Apply for Worker Adjustment Assistance, applicable to workers of the subject firm. The denial notice was signed on November 27, 2001, and published in the Federal Register on December 18, 2001 (66 FR 65220).

The Department reviewed the request for reconsideration and has determined that the Department will examine the petitioner's allegation claiming that the Department did not survey a representative sample of the subject firm's customer base.

Conclusion

After careful review of the application, I conclude that the claim is of sufficient weight to justify reconsideration of the Department of Labor's prior decision. The application is, therefore, granted.

Signed at Washington, DC, this 26th day of April, 2002.
Edward A. Tomchick,
Director, Division of Trade Adjustment Assistance.

[FR Doc. 02-13940 Filed 6-3-02; 8:45 am]

BILLING CODE 4510-30-P